DEPARTMENT OF COMMERCE

National Oceanic and Atmospheric Administration

RIN 0648-XZ51

Marine Mammals; File No. 15543

AGENCY: National Marine Fisheries Service (NMFS), National Oceanic and Atmospheric Administration (NOAA), Commerce.

ACTION: Notice; issuance of permit.

SUMMARY: Notice is hereby given that Randall S. Wells, Ph.D. (Principal Investigator), Sarasota Dolphin Research Program, c/o Mote Marine Laboratory, 1600 Ken Thompson Parkway, Sarasota, FL 34236, has been issued a permit to conduct research on bottlenose dolphins (Tursiops truncatus).

ADDRESSES: The permit and related documents are available for review upon written request or by appointment in the following office(s):

Permits, Conservation and Education Division, Office of Protected Resources, NMFS, 1315 East-West Highway, Room 13705, Silver Spring, MD 20910; phone (301) 713-2289; fax (301) 713-0376;

Southeast Region, NMFS, 263 13th Avenue South, Saint Petersburg, Florida 33701; phone (727) 824-5312; fax (727) 824-5309.

FOR FURTHER INFORMATION CONTACT: Laura Morse or Carrie Hubard, (301) 713-2289.

SUPPLEMENTARY INFORMATION: On October 19, 2010, notice was published in the Federal Register (75 FR 64247) that a request for a permit to conduct research on bottlenose dolphins had been submitted by the above-named applicant. The requested permit has been issued under the authority of the Marine Mammal Protection Act of 1972, as amended (16 U.S.C. 1361 et seq.) and the regulations governing the taking and importing of marine mammals (50 CFR part 216).

The permit authorizes annual takes of up to 15,050 animals for photo-identification and behavioral studies and remote biopsy sampling of up to 100 individual dolphins. Fifty dolphins a year may be captured, examined, sampled, tagged, marked, and released for health assessment studies. Research may occur in the shallow inshore and coastal waters of west Florida out to 50 miles offshore, with a focus along the central west coast, from Clearwater southward to Fort Myers. Females with calves less than one year old will not be captured. The research will provide crucial background information population structure, dynamics, life history, social structure, genetic structure including paternity patterns, and human interactions. The sampling and tagging will support health assessment, auditory system, feeding, and ranging pattern studies. Research will also include assessments of oil spill impacts at individual and population levels. Permit No. 15543 expires on June 1, 2016.

In compliance with the National Environmental Policy Act of 1969 (42 U.S.C. 4321 et seq.), a final determination has been made that the activity proposed is categorically excluded from the requirement to prepare an environmental assessment or environmental impact statement.

Dated: May 26, 2011.
P. Michael Payne,
Chief, Permits, Conservation and Education Division, Office of Protected Resources, National Marine Fisheries Service.

[FR Doc. 2011-13840 Filed 6-2-11; 8:45 am]

BILLING CODE 3510-22-P